DEPARTMENT OF DEFENSE

Office of the Secretary

Charter Amendment of Department of Defense Federal Advisory Committees

AGENCY: Department of Defense.

ACTION: Amendment of Federal Advisory Committee.

SUMMARY: The Department of Defense (DoD) is publishing this notice to announce that it is amending the charter for the United States Naval Academy Board of Visitors.

FOR FURTHER INFORMATION CONTACT: Jim Freeman, Advisory Committee Management Officer for the Department of Defense, 703-692-5952.

SUPPLEMENTARY INFORMATION: This committee's charter is being amended in accordance with the Federal Advisory Committee Act (FACA) of 1972 (5 U.S.C., Appendix, as amended) and 41 CFR 102-3.50(d). The amended charter and contact information for the Designated Federal Officer (DFO) can be obtained at http://www.facadatabase.gov/. The DoD is amending the charter for the United States Naval Academy Board of Visitors previously announced in the Federal Register on Wednesday, June 22, 2016 (81 FR 40679). Specifically, the DoD is amending the charter to update the estimated number of annual meetings of the United States Naval Academy Board of Visitors.

Dated: January 5, 2017.
Aaron Siegel,
Alternate OSD Federal Register Liaison Officer, Department of Defense.

[FR Doc. 2017-00239 Filed 1-9-17; 8:45 am]

BILLING CODE 5001-06-P